DEPARTMENT OF DEFENSE

Office of the Secretary

Revised Non-Foreign Overseas Per Diem Rates

AGENCY: DoD, Per Diem, Travel and Transportation Allowance Committee.

ACTION: Notice of revised non-foreign overseas per diem rates.

SUMMARY: The Per Diem, Travel and Transportation Allowance Committee is publishing Civilian Personnel Per Diem Bulletin Number 219. This bulletin lists revisions in the per diem rates prescribed for U.S. Government employees for official travel in Alaska, Hawaii, Puerto Rico, the Northern Mariana Islands and Possessions of the United States. AEA changes announced in Bulletin Number 194 remain in effect. Bulletin Number 219 is being published in the Federal Register to assure that travelers are paid per diem at the most current rates.

EFFECTIVE DATE: September 1, 2001.

SUPPLEMENTARY INFORMATION: This document gives notice of revisions in per diem rates prescribed by the Per Diem Travel and Transportation Allowance Committee for non-foreign areas outside the continental United States. It supersedes Civilian Personnel Per Diem Bulletin Number 218. Distribution of Civilian Personnel Per Diem Bulletins by mail was discontinued. Per Diem Bulletins published periodically in the Federal Register ow constitute the only notification of revisions in per diem rates to agencies and establishments outside the Department of Defense. For more information or questions about per diem rates, please contact your local travel office. The text of the Bulletin follows:

Civilian Bulletin No. 219—Maximum Per Diem Rates for Official Travel in Alaska, Hawaii, the Commonwealths of Puerto Rico and the Northern Mariana Islands and Possessions of the United States by Federal Government Civilian Employees
[The only changes in civilian bulletion 219 updates rates for Alaska]
Locality | Maximum lodging amount |  | M&IE rate |  | Maximum per diem rate | Effective date
| (A) | + | (B) | = | (C) |
Alaska:
Anchorage [Incl Nav Res]
05/01-09/15 | 161 52 30 |  | 13 |  | 226 | 09/01/2001
09/16-04/30 | 89 46 27 |  | 11 |  | 146 | 09/01/2001
Barrow | 140 60 34 |  | 15 |  | 215 | 05/01/2000
Bethel | 90 50 29 |  | 13 |  | 153 | 09/01/2001
Clear | 80 44 26 |  | 11 |  | 135 | 09/01/2001
Cold Bay | 153 35 22 |  | 9 |  | 197 | 09/01/2001
Coldfoot | 135 57 33 |  | 14 |  | 206 | 10/01/1999(ROW> | Copper Center | 85 39 24 |  | 10 |  | 134 | 09/01/2001
Cordova | 80 58 33 |  | 14 |  | 152 | 03/01/2000
Craig
05/01-08-31 | 90 52 30 |  | 13 |  | 155 | 09/01/2001
09/01-04/30 | 77 51 30 |  | 13 |  | 141 | 09/01/2001
Deadhorse | 80 54 31 |  | 13 |  | 147 | 03/01/1999
Delta Junction | 79 40 24 |  | 10 |  | 129 | 09/01/2001
Denali National Park
06/01-08/31 | 125 53 31 |  | 13 |  | 191 | 09/01/2001
09/01-05/31 | 90 50 29 |  | 13 |  | 153 | 09/01/2001
Dillingham | 95 48 28 |  | 12 |  | 155 | 09/01/2001
Dutch Harbor-Unalaska | 110 54 31 |  | 13 |  | 177 | 09/01/2001
Eareckson Air Station | 80 44 26 |  | 11 |  | 135 | 09/01/2001
Eielson AFB
05/01-09/15 | 149 53 31 |  | 13 |  | 215 | 09/01/2001
09/16-04/30 | 75 46 27 |  | 12 |  | 133 | 09/01/2001
Elemendorf AFB
05/01-09/15 | 161 52 30 |  | 13 |  | 226 | 09/01/2001
09/16-04/30 | 89 46 27 |  | 11 |  | 146 | 09/01/2001
Fairbanks
05/01-09/15 | 149 53 31 |  | 13 |  | 215 | 09/01/2001
09/16-04/30 | 75 46 27 |  | 12 |  | 133 | 09/01/2001
Ft. Greely | 79 40 24 |  | 10 |  | 129 | 09/01/2001
Ft. Richardson
05/01-09/15 | 161 52 30 |  | 13 |  | 226 | 09/01/2001
09/16-04/30 | 89 46 27 |  | 11 |  | 146 | 09/01/2001
Ft. Wainwright
05/01-09/15 | 149 53 31 |  | 13 |  | 215 | 09/01/2001
09/16-04/30 | 75 46 27 |  | 12 |  | 133 | 09/01/2001
Glennallen
05/01-09/30 | 137 49 29 |  | 12 |  | 198 | 09/01/2001
10/01-04/30 | 89 45 27 |  | 11 |  | 145 | 09/01/2001
Healy
06/01-08/31 | 125 53 31 |  | 13 |  | 191 | 09/01/2001
09/01-05/31 | 90 50 29 |  | 13 |  | 153 | 09/01/2001
Homer
05/15-09/15 | 119 54 31 |  | 13 |  | 186 | 09/01/2001
09/16-05/14 | 79 50 29 |  | 13 |  | 142 | 09/01/2001
Juneau | 109 52 30 |  | 13 |  | 174 | 09/01/2001
Kaktovik | 165 60 34 |  | 15 |  | 240 | 01/01/2000
Kavik Camp | 125 55 32 |  | 14 |  | 194 | 03/01/1999
Kenai-Soldotna
04/01-10/31 | 131 55 32 |  | 14 |  | 200 | 09/01/2001
11/01-03/31 | 86 52 30 |  | 13 |  | 151 | 09/01/2001
Kennicott | 159 57 33 |  | 14 |  | 230 | 09/01/2001
Ketchikan | 98 51 30 |  | 13 |  | 162 | 09/01/2001
King Salmon
05/01-10/01 | 160 64 36 |  | 16 |  | 240 | 09/01/2001
10/02-04/30 | 95 58 33 |  | 15 |  | 168 | 09/01/2001
Klawock
05/01-08/31 | 90 52 30 |  | 13 |  | 155 | 09/01/2001
09/01-04/30 | 77 51 30 |  | 13 |  | 141 | 09/01/2001
Kodiak | 99 56 32 |  | 14 |  | 169 | 09/01/2001
Kotzebue
05/01-08/31 | 137 55 32 |  | 14 |  | 206 | 09/01/2001
09/01-04/30 | 95 44 26 |  | 11 |  | 150 | 09/01/2001
Kulis AGS
05/01-09/15 | 161 52 30 |  | 13 |  | 226 | 09/01/2001
09/16-04/30 | 89 46 27 |  | 11 |  | 146 | 09/01/2001
McCarthy | 159 57 33 |  | 14 |  | 230 | 09/01/2001
Metlakatla
05/30-10/01 | 98 45 27 |  | 11 |  | 154 | 09/01/2001
10/02-06/01 | 78 43 26 |  | 11 |  | 132 | 09/01/2001
Murphy Dome
05/01-09/15 | 149 53 31 |  | 13 |  | 215 | 09/01/2001
09/16-04/30 | 75 46 27 |  | 12 |  | 133 | 09/01/2001
Nome | 89 51 30 |  | 13 |  | 153 | 09/01/2001
Nuiqsut | 175 42 25 |  | 11 |  | 228 | 09/01/2001
Point Hope | 130 56 21 |  | 14 |  | 200 | 03/01/1999
Point Lay | 105 54 31 |  | 13 |  | 172 | 03/01/1999
Prudhoe Bay | 80 54 31 |  | 13 |  | 147 | 03/01/1999
Seward
05/31-09/30 | 119 53 31 |  | 13 |  | 185 | 09/01/2001
10/01-05/30 | 74 49 29 |  | 12 |  | 135 | 09/01/2001
Sitka-Mt. Edgecombe
05/16-09/16 | 139 58 33 |  | 15 |  | 212 | 01/01/2000
09/17-05/15 | 129 58 33 |  | 14 |  | 201 | 01/01/2000
Skagway | 98 51 30 |  | 13 |  | 162 | 09/01/2001
Spruce Cape | 99 56 32 |  | 14 |  | 169 | 09/01/2001
Tanana | 89 51 30 |  | 13 |  | 153 | 09/01/2001
Umiat | 172 62 35 |  | 16 |  | 250 | 09/01/2001
Valdez
05/01-10/01 | 109 55 32 |  | 14 |  | 178 | 09/01/2001
10/02-04/30 | 99 54 31 |  | 14 |  | 167 | 09/01/2001
Wainwright | 124 41 25 |  | 10 |  | 175 | 09/01/2001
Wasilla | 95 48 28 |  | 12 |  | 155 | 01/01/2000
Wrangell | 98 51 30 |  | 13 |  | 162 | 09/01/2001
Yakutat | 110 54 31 |  | 14 |  | 178 | 03/01/1999
(Other) | 80 44 26 |  | 11 |  | 135 | 09/01/2001
American Samoa: American Samoa | 85 |  | 67 |  | 152 | 03/01/2000
Guam: Guam (Incl All Mil Instal) | 150 |  | 71 |  | 221 | 04/01/2000
Hawaii:
Camp H M Smith | 112 |  | 65 |  | 177 | 06/01/2000
Eastpac Naval Comp Tele Area | 112 |  | 65 |  | 177 | 06/01/2000
Ft. Derussey | 112 |  | 65 |  | 177 | 06/01/2000
Ft. Shafter | 112 |  | 65 |  | 177 | 06/01/2000
Hickam AFB | 112 |  | 65 |  | 177 | 06/01/2000
Honolulu (Incl Nav & Mc Res Ctr) | 112 |  | 65 |  | 177 | 06/01/2000
Isle of Hawaii: Hilo | 84 |  | 58 |  | 142 | 05/01/2000
Isle of Hawaii: Other | 89 |  | 54 |  | 143 | 05/01/2000
Isle of Kauai
05/01-11/30 | 143 |  | 69 |  | 212 | 06/01/2000
12/01-04/30 | 176 |  | 73 |  | 249 | 06/01/2000
Isle of Kure | 65 |  | 41 |  | 106 | 05/01/1999
Isle of Maui | 143 |  | 72 |  | 215 | 05/01/2000
Isle of Oahu | 112 |  | 65 |  | 177 | 06/01/2000
Kaneohe Bay Mc Base | 112 |  | 65 |  | 177 | 06/01/2000
Kekaha Pacific Missile Range Fac
05/01-11/30 | 143 |  | 69 |  | 212 | 06/01/2000
12/01-04/30 | 176 |  | 73 |  | 249 | 06/01/2000
Kilauea Military Camp | 84 |  | 58 |  | 142 | 05/01/2000
Lualualei Naval Magazine | 112 |  | 65 |  | 177 | 06/01/2000
Nas Barbers Point | 112 |  | 65 |  | 177 | 06/01/2000
Pearl Harbor (Incl All Military) | 112 |  | 65 |  | 177 | 06/01/2000
Schofield Barracks | 112 |  | 65 |  | 177 | 06/01/2000
Wheeler Army Airfield | 112 |  | 65 |  | 177 | 06/01/2000
(Other) | 72 |  | 61 |  | 133 | 01/01/2000
Johnston Atoll: Johnston Atoll | 13 |  | 16 |  | 29 | 12/01/2000
Midway Islands: Midway Islands (Incl All Military) | 150 |  | 47 |  | 197 | 02/01/2000
Northern Mariana Islands:
Rota | 149 |  | 72 |  | 221 | 04/01/2000
Saipan | 154 |  | 87 |  | 241 | 04/01/2000
(Other) | 55 |  | 72 |  | 127 | 04/01/2000
Puerto Rico:
Bayamon
04/11-12/23 | 155 |  | 71 |  | 226 | 01/01/2000
12/24-04/10 | 195 |  | 75 |  | 270 | 01/01/2000
Carolina
04/11-12/23 | 155 |  | 71 |  | 226 | 01/01/2000
12/24-04/10 | 195 |  | 75 |  | 270 | 01/01/2000
Fajardo (Incl Ciba & Luquillo)
Ft. Buchanan (Incl GSA Svc Ctr)
04/11-12/23 | 155 |  | 71 |  | 226 | 01/01/2000
12/24-04/10 | 195 |  | 75 |  | 270 | 01/01/2000
Humacao | 82 |  | 54 |  | 136 | 01/01/2000
Luis Munoz, Marin IAP AGS
04/11-12/23 | 155 |  | 71 |  | 226 | 01/01/2000
12/24-04/10 | 195 |  | 75 |  | 270 | 01/01/2000
Mayaguez | 85 |  | 59 |  | 144 | 01/01/2000
Ponce | 96 |  | 69 |  | 165 | 01/01/2000
Roosevelt RDS & Nav Sta | 82 |  | 54 |  | 136 | 01/01/2000
Sabana Seca [incl All Military]
04/11-12/23 | 155 |  | 71 |  | 226 | 01/01/2000
12/24-04/10 | 195 |  | 75 |  | 270 | 01/01/2000
San Juan & Nav Res Sta
04/11-12/23 | 155 |  | 71 |  | 226 | 01/01/2000
12/24-04/10 | 195 |  | 75 |  | 270 | 01/01/2000
[Other] | 62 |  | 57 |  | 119 | 01/01/2000
Virgin Islands (U.S.):
St. Croix
04/15-12/14 | 93 |  | 72 |  | 165 | 01/01/2000
12/15-04/14 | 129 |  | 76 |  | 205 | 01/01/2000
St. John
04/15-12/14 | 219 |  | 84 |  | 303 | 01/01/2000
12/15-04/14 | 382 |  | 100 |  | 482 | 01/01/2000
St. Thomas
04/15-12/14 | 163 |  | 73 |  | 236 | 01/01/2000
12/15-04/14 | 288 |  | 86 |  | 374 | 01/01/2000
Wake Island: Wake Island | 60 |  | 32 |  | 92 | 09/01/1998

Dated: August 29, 2001.
L.M. Bynum,
Alternate OSD Federal Register Liaison Officer, Department of Defense.

[FR Doc. 01-22308 Filed 9-5-01; 8:45 am]

BILLING CODE 5001-08-M